DEPARTMENT OF COMMERCE

National Oceanic and Atmospheric Administration

50 CFR Part 622

[Docket No. 250729-0132]

RIN 0648-BN85

Reef Fish Fishery of the Gulf of America; Red Grouper Catch Limits

AGENCY: National Marine Fisheries Service (NMFS), National Oceanic and Atmospheric Administration (NOAA), Commerce.

ACTION: Final temporary rule; emergency action.

SUMMARY: NMFS issues this final temporary rule to promulgate emergency measures, due to recently discovered circumstances to mitigate harmful economic conditions to red grouper fishermen in the Gulf of America (Gulf). As requested by the Gulf Council (Council), NMFS issues this final temporary rule to increase the Gulf red grouper catch limits for the remainder of the 2025 fishing year. The purpose of this emergency action is to allow for increased harvest opportunities in the commercial and recreational sectors, particularly by extending the recreational fishing season and increasing the revenue potential for commercial and charter vessel/headboat (for-hire) fishermen targeting red grouper.

DATES: This final temporary rule is effective August 6, 2025 through December 31, 2025.

ADDRESSES: Electronic copies of the documents in support of this final temporary rule for emergency action, which includes the Council's letter to NMFS requesting the emergency action may be obtained from the Southeast Regional Office website at https://www.fisheries.noaa.gov/action/emergency-rule-increase-catch-limits-gulf-america-red-grouper.

FOR FURTHER INFORMATION CONTACT: Dan Luers, telephone: 727-824-5305, or email: Daniel.Luers@noaa.gov.

SUPPLEMENTARY INFORMATION: The reef fish fishery of the Gulf is managed under the Fishery Management Plan for the Reef Fish Resources of the Gulf (FMP). The FMP was prepared by the Council, approved by the Secretary of Commerce, and is implemented by NMFS through regulations at 50 CFR part 622 under the authority of the Magnuson-Stevens Fishery Conservation and Management Act (Magnuson-Stevens Act). Section 305(c) of the Magnuson-Stevens Act provides the legal authority for the promulgation of emergency regulations (16 U.S.C. 1855(c)).

Executive Order 14172, “Restoring Names That Honor American Greatness” (January 20, 2025), directs that the Gulf of Mexico be renamed the Gulf of America. Consistent with the order, NMFS uses Gulf of America to refer to the geographical area previously known as the Gulf of Mexico, except when a statute or existing regulations explicitly refer to the “Gulf of Mexico.” Relevant to this rulemaking, existing regulations contained in 50 CFR part 622, including the heading for that part, refer to the Gulf of Mexico. Amending the existing regulations in 50 CFR part 622 to reflect the change to Gulf of America is beyond the scope of this rulemaking.

Background

The Magnuson-Stevens Act requires NMFS and regional fishery management councils to prevent overfishing and achieve, on a continuing basis, the optimum yield (OY) from federally managed fish stocks. These mandates are intended to ensure fishery resources are managed for the greatest overall benefit to the nation, particularly with respect to providing food production and recreational opportunities, and protecting marine ecosystems.

Unless otherwise noted, all weights in this final temporary rule are in gutted weight.

For red grouper, the Southeast Data, Assessment, and Review (SEDAR) 61 stock assessment was completed in 2019. SEDAR 61 used recreational catch and effort data from the Marine Recreational Information Program (MRIP)-Fishing Effort Survey (FES), which estimates much greater recreational harvest than its predecessors, the Marine Recreational Fisheries Statistics Survey and the MRIP-Coastal Household Telephone Survey. These prior surveys were used in previous stock assessments and to specify the initial allocation of the total allowable harvest between the commercial and recreational sectors. SEDAR 61 determined that the stock was not overfished or undergoing overfishing, but was below the target spawning stock biomass. Therefore, the Council developed, and NMFS implemented, Amendment 53 to the FMP to reduce the red grouper annual catch limits (ACLs) and annual catch targets (ACTs) consistent with the assessment results, and adjust the commercial and recreational allocations of the stock ACL to reflect the change in the recreational catch estimates produced by MRIP-FES. Amendment 53 allocated 59.3 percent of the stock ACL to the commercial sector and 40.7 percent of the stock ACL to the recreational sector. Amendment 53 also modified the buffers between the ACLs and ACTs, setting the recreational ACT 9 percent below the recreational ACL and the commercial ACT (quota) 5 percent below the commercial ACL (87 FR 25573, May 22, 2022).

After Amendment 53 was implemented, NMFS implemented a framework action that set the current catch limits, which are slightly higher than those specified in Amendment 53 (87 FR 40742, July 8, 2022). The framework action used the sector allocations and ACL-ACT buffers established in Amendment 53. Based on that framework action, the current total ACL is 4.96 million pounds (lb) (2.25 million kilograms (kg)), the commercial ACL and ACT (quota) are 2.94 million lb (1.33 million kg) and 2.79 million lb (1.27 million kg), respectively, and the recreational ACL and ACT are 2.02 million lb (0.92 million kg) and 1.84 million lb (0.83 million kg), respectively.

The most recent red grouper stock assessment, SEDAR 88, was completed in 2025. SEDAR 88 replaced the MRIP-FES estimates of Florida private recreational landings with estimates produced by Florida's State Reef Fish Survey (SRFS). The Council's Scientific and Statistical Committee (SSC) determined that this change was appropriate because greater than 95 percent of all red grouper are landed in Florida.

The results of SEDAR 88 showed an increase in the red grouper stock size. Based on these results and the Southeast Fisheries Science Center projections, the SSC recommended an increase in the red grouper overfishing limit (OFL) from 5.99 million lb (2.72 million kg) to 10.64 million lb (4.83 million kg) and an increase in the acceptable biological catch (ABC) from 4.96 million lb (2.25 million kg) to 8.28 million lb (3.76 million kg). Because the recommended catch levels are based on an assessment that used SRFS data they are not directly comparable to the current catch levels, which are based on an assessment that used MRIP-FES data. The increase in the allowable harvest is larger than it appears because SRFS produces estimates that are lower than the MRIP estimates.

The red grouper recreational accountability measures (AM) require the closure of the recreational sector when recreational landings reach or are projected to reach the recreational ACL (50 CFR 622.41(e)(2)(i)). In addition, if recreational landings exceed the recreational ACL, NMFS must reduce the length of the recreational fishing season in that following fishing year by the amount necessary to ensure red grouper recreational landings do not exceed the recreational ACT (50 CFR 622.41(e)(2)(ii)). The red grouper commercial sector is managed through the individual fishing quota (IFQ) program for groupers and tilefishes in the Gulf. The IFQ program is the commercial AM, constraining landings to the commercial ACT (quota). The fishing year for red grouper is January 1 through December 31 (50 CFR 622.7).

Recreational harvest exceeded the red grouper recreational ACL by approximately 72 percent in 2021, by 35 percent in 2022, and by 25 percent in 2023 even though NMFS implemented progressively shorter seasons. In 2024, NMFS closed the red grouper recreational sector on July 1 based on projections of when the 2024 recreational ACT would be reached (89 FR 35011, May 1, 2024). This resulted in the shortest recreational red grouper season since the recreational ACL was put in place in 2009. Despite this early closure, preliminary 2024 landings estimates indicate that 123 percent of the recreational ACT and 112 percent of the recreational ACL were harvested in 2024. NMFS projects that the 2025 recreational fishing season would need to close in June or July to avoid exceeding the 2025 recreational ACT. These shortened red grouper recreational seasons, combined with significant reductions to sector catch limits for other species in the FMP (including gag and greater amberjack), have resulted in reduced recreational fishing opportunities. The reductions to the commercial catch limits for other reef fish species and particularly red grouper, have also reduced revenue opportunities for the commercial sector.

Council Emergency Action Request

In a letter to NMFS dated April 29, 2025, and based on discussion at its April 2025 meeting, the Council requested that NMFS promulgate an emergency action as quickly as possible in 2025 to increase the catch limits for red grouper. The Council's request noted public testimony from for-hire operators, who described economic hardship caused by the progressively shorter red grouper seasons and the need to allow for an increase in the number of trips this year. The Council also heard from commercial fishermen, who noted that the availability of additional red grouper allocation would make that allocation more affordable to those who need to buy additional pounds of fish under the IFQ system. Consistent with the Council's request, this final temporary rule will set the stock ACL at 90 percent of the SSC's recommended ABC and revise corresponding sector ACLs and ACTs based on the sector allocations and buffers in Amendment 53.

NMFS projects that implementing the increased recreational ACT and ACL in this final temporary rule will allow the red grouper recreational fishing season to remain open until the end of the fishing year (through December 31, 2025). This will allow for increased harvest opportunities for the recreational sector and increased revenue opportunities for for-hire businesses. The increase to the commercial catch limits may decrease allocation prices, which would benefit commercial fishermen who purchase allocation but reduce profits for shareholders who sell allocation. Overall, NMFS expects the catch limit increases in this final temporary rule for emergency measures to have positive economic and social impacts for both commercial and recreational fishers who target red grouper in Gulf Federal waters.

Criteria and Justification for Emergency Action

NMFS' Policy Guidelines for the Use of Emergency Rules (62 FR 44421, August 21, 1997) list three criteria for determining whether an emergency exists. Specifically, NMFS' policy guidelines require that an emergency: “(1) Results from recent, unforeseen events or recently discovered circumstances; and (2) Presents serious conservation or management problems in the fishery; and (3) Can be addressed through emergency regulations for which the immediate benefits outweigh the value of advance notice, public comment, and deliberative consideration of the impacts on participants to the same extent as would be expected under the normal rulemaking process.” NMFS issues this emergency action in compliance with these guidelines to mitigate economic hardships to fishermen targeting red grouper in the Gulf.

With respect to the first criterion, the recently discovered circumstances are the SEDAR 88 stock assessment and the new catch advice the SSC provided the Council in May 2025, which indicate that the red grouper stock can support higher harvest levels than permitted under the current regulations.

The second criterion, which requires a serious conservation or management problem in the fishery, is satisfied because the measures in this emergency rule are needed to prevent significant direct economic loss and preserve a significant economic opportunity that might otherwise be forgone, as well as prevent significant community impacts resulting from the reduced opportunity for harvest of key species managed under the FMP in recent years. Large decreases in catch limits for species such as gag (a greater than 80 percent reduction in its stock ACL), greater amberjack (a greater than 80 percent reduction in its stock ACL), as well as the decrease in the red grouper catch limits in 2022 has diminished fishing opportunities for the commercial and recreational sectors. For the recreational sector, if this emergency rule is not implemented, NMFS projects that a closure for red grouper would have been required in June or July to constrain harvest to the current ACT. NMFS projects that the emergency action will allow the recreational sector to remain open through the end of the 2025 fishing year, preserving fishing opportunities and preventing significant community impacts that may result from another earlier closures. For the commercial sector, NMFS expects the increase in red grouper ACT (quota) to increase revenue opportunities. Because the red grouper commercial ACT (quota) will increase, the allocation transfer prices could decrease, which will be beneficial for some commercial harvesters. However, it could result in forgone profits for IFQ shareholders, as well as for fishing businesses that already purchased allocation at higher prices at the beginning of the year. Overall, NMFS expects the catch limit increases in this emergency action to have net positive economic and social impacts for commercial and for-hire businesses and recreational anglers who target red grouper in the Gulf.

To address the third criterion, NMFS has determined that the immediate benefit of implementing the emergency action outweighs the value of advance notice, public comment, and deliberative consideration of the impacts to the same extent as would be expected under the normal rulemaking process. Without this emergency action the recreational fishing season will close much earlier in the year, negatively impacting for-hire fishermen and private anglers. Commercial fishermen who harvest red grouper will also be constrained to the lower commercial ACT (quota). By foregoing the normal rulemaking process, this emergency action will immediately allow for greater harvest by both the commercial and recreational sectors and provide for an extended recreational fishing season, thus resulting in economic and social benefits to those who harvest red grouper.

Emergency Measures

This final temporary rule increases the red grouper catch limits. The OFL is 10.64 million lb (4.83 million kg), the ABC is 8.28 million lb (3.76 million kg), and the stock ACL is 7.45 million lb (3.38 million kg), which is 90 percent of the ABC. Applying the current sector allocations of 59.3 percent of the stock ACL to the commercial sector and 40.7 percent of the stock ACL to the recreational sector, the commercial ACL is 4.42 million lb (2.00 million kg) and the recreational ACL is 3.03 million lb (1.37 million kg). Using the current buffers between the ACLs and ACTs, the commercial ACT (quota) is 4.20 million lb (1.91 million kg) and the recreational ACT is 2.76 million lb (1.25 million kg). These catch limits will be effective on the date of publication of this final temporary rule in the Federal Register, as authorized by section 305(c) of the Magnuson-Stevens Act, and they will be effective until the end of the 2025 fishing year on December 31, 2025. This final temporary rule for emergency action will not be extended past December 31, 2025, and its measures will not be in effect for the 2026 fishing year. The Council is developing an amendment to the FMP to revise the red grouper catch limits consistent with SEDAR 88 and the SSC's recommendations. This amendment will also consider revising the sector allocations. If approved, NMFS expects any final rule implementing the amendment to be effective during the 2026 fishing year.

Classification

This action is issued pursuant to section 305(c) of the Magnuson-Stevens Act, 16 U.S.C. 1855(c). The NOAA Assistant Administrator (AA) for Fisheries has determined that this emergency action is consistent with the Magnuson-Stevens Act, the FMP, and other applicable law. This action is being taken pursuant to the emergency provisions of the Magnuson-Stevens Act and is exempt from Office of Management and Budget review.

This final temporary rule is not an Executive Order 14192 regulatory action because this action is not significant under Executive Order 12866.

The AA finds good cause to waive the requirements to provide prior notice and opportunity for public comment pursuant to the authority set forth in 5 U.S.C. 553(b)(B). Providing prior notice and opportunity for public comment on this action would be contrary to the public interest. As previously discussed, the red grouper recreational sector has experienced in-season closures every year since 2021. This rule will provide for-hire fishing businesses and recreational anglers immediate relief from the recent shortened seasons and reduced fishing opportunities. If NMFS were to provide prior notice and comment, NMFS would be unable to implement the increase in the red grouper catch limits before the current recreational ACT is projected to be met and an in-season closure is necessary. Immediate implementation of the increases to the recreational ACL and ACT will allow the recreational season to remain open through the end of 2025. Additionally, the sooner the additional commercial ACT (quota) is distributed to shareholders, the greater the opportunity for IFQ fishermen to harvest the additional allocation before the end of the year. Further, the increase to the commercial ACT (quota) will provide immediate and additional fishing opportunities and potential economic benefits. NMFS received the Council's request for emergency action at the end of April 2025 and worked as quickly as possible to compile the relevant information and documentation needed to implement this action. There is not sufficient time to provide for notice and public comment and still meet the timing needs to achieve the action's objectives.

The need to implement these measures immediately for the reasons stated above also constitutes good cause under authority contained in 5 U.S.C. 553(d)(3) to waive the 30-day delay in effectiveness of the rule.

This final temporary rule for emergency action is exempt from the procedures of the Regulatory Flexibility Act because the rule is issued without opportunity for prior notice and opportunity for public comment pursuant to 5 U.S.C. 553 or other law. Accordingly, no regulatory flexibility analysis is required and none has been prepared.

List of Subjects in 50 CFR Part 622

Commercial, Fisheries, Gulf, Recreational, Red grouper, Reef Fish.

Authority: 16 U.S.C. 1801 et seq.

Dated: July 29, 2025.
Samuel D. Rauch III,
Deputy Assistant Administrator for Regulatory Programs, National Marine Fisheries Service.

For the reasons set out in the preamble, NMFS amends 50 CFR part 622 as follows:

PART 622—FISHERIES OF THE CARIBBEAN, GULF OF MEXICO, AND SOUTH ATLANTIC

1. The authority citation for part 622 continues to read as follows:

Authority: 16 U.S.C. 1801 et seq.

2. In § 622.39:

a. Stay paragraph (a)(1)(iii)(C); and

b. Add paragraph (a)(1)(iii)(D).

The addition reads as follows:

§ 622.39 Quotas.

* * * * *

(a) * * *

(1) * * *

(iii) * * *

(D) Red grouper. In addition to the provisions in introductory paragraph (a)(1)(iii) of this section, the red grouper quota for the 2025 fishing year is 4.20 million lb (1.91 million kg), gutted weight, that is, eviscerated but otherwise whole.

* * * * *

3. In § 622.41:

a. Stay paragraph (e); and

b. Add paragraph (r).

The addition reads as follows:

§ 622.41 Annual catch limits (ACLs), annual catch targets (ACTs), and accountability measures (AMs).

* * * * *

(r) Red grouper—(1) Commercial sector. The IFQ program for groupers and tilefishes in the Gulf of Mexico serves as the accountability measure for commercial red grouper. The commercial ACT for red grouper is equal to the applicable quota specified in § 622.39(a)(1)(iii)(D). The commercial ACL for red grouper in gutted weight is 4.42 million lb (2.00 million kg).

(2) Recreational sector. (i) Without regard to overfished status, if red grouper recreational landings, as estimated by the SRD, reach or are projected to reach the applicable ACL specified in paragraph (r)(2)(iv) of this section, the AA will file a notification with the Office of the Federal Register, to close the recreational sector for the remainder of the fishing year. On and after the effective date of such a notification, the bag and possession limit of red grouper in or from the Gulf EEZ is zero. This bag and possession limit applies in the Gulf on board a vessel for which a valid Federal charter vessel/headboat permit for Gulf reef fish has been issued, without regard to where such species were harvested, i.e. in state or Federal waters.

(ii) Without regard to overfished status, and in addition to the measures specified in paragraph (r)(2)(i) of this section, if red grouper recreational landings, as estimated by the SRD, exceed the applicable ACL specified in paragraph (r)(2)(iv) of this section, the AA will file a notification with the Office of the Federal Register to maintain the red grouper ACT, specified in paragraph (r)(2)(iv) of this section, for that following fishing year at the level of the prior year's ACT, unless the best scientific information available determines that maintaining the prior year's ACT is unnecessary. In addition, the notification will reduce the length of the recreational red grouper fishing season the following fishing year by the amount necessary to ensure red grouper recreational landings do not exceed the recreational ACT in the following fishing year.

(iii) If red grouper are overfished, based on the most recent Status of U.S. Fisheries Report to Congress, and red grouper recreational landings, as estimated by the SRD, exceed the applicable ACL specified in paragraph (r)(2)(iv) of this section, the following measures will apply. In addition to the measures specified in paragraphs (r)(2)(i) and (ii) of this section, the AA will file a notification with the Office of the Federal Register, at or near the beginning of the following fishing year to reduce the ACL for that following year by the amount of the ACL overage in the prior fishing year, and reduce the ACT, as determined in paragraph (r)(2)(ii) of this section, by the amount of the ACL overage in the prior fishing year, unless the best scientific information available determines that a greater, lesser, or no overage adjustment is necessary.

(iv) The recreational ACL for red grouper in gutted weight is 3.03 million lb (1.37 million kg). The recreational ACT for red grouper in gutted weight is 2.76 million lb (1.25 million kg).

[FR Doc. 2025-14941 Filed 8-5-25; 8:45 am]

BILLING CODE 3510-22-P